ENVIRONMENTAL PROTECTION AGENCY

[EPA-HQ-OAR-2007-1183; FRL-8546-5]

Agency Information Collection Activities; Submission to OMB for Review and Approval; Comment Request; Emissions Certification and Compliance Requirements for Nonroad Spark-ignition (SI) Engines (Renewal); EPA ICR No. 1695.09, OMB Control No. 2060-0338

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 25, 2008.

ADDRESSES: Submit your comments, referencing Docket ID No. EPA-HQ-OAR-2007-1183, to (1) EPA online using http://www.regulations.gov (our preferred method), by e-mail to a-and-r-Docket@epa.gov or by mail to: EPA Docket Center, Environmental Protection Agency, Air and Radiation Docket and Information Center (Mailcode 2822T), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Nydia Yanira Reyes-Morales, Environmental Protection Agency, 1200 Pennsylvania Avenue NW., Mail Code 6403J, Washington, DC 20460; telephone number: 202-343-9264; fax number: 202-343-2804; e-mail address: reyes-morales.nydia@epa.gov.

SUPPLEMENTARY INFORMATION: EPA has submitted the following ICR to OMB for review and approval according to the procedures prescribed in 5 CFR 1320.12. On January 15, 2008 (73 FR 2489), EPA sought comments on this ICR pursuant to 5 CFR 1320.8(d). EPA received no comments during the comment period. Any additional comments on this ICR should be submitted to EPA and OMB within 30 days of this notice.

EPA has established a public docket for this ICR under Docket ID No. EPA-HQ-OAR-2007-1183, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Emissions Certification and Compliance Requirements for Nonroad Spark-ignition (SI) Engines (Renewal).

ICR Numbers: EPA ICR No. 1695.09, OMB Control No. 2060-0338.

ICR Status: This ICR is scheduled to expire on March 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Under Title II of the Clean Air Act (42 U.S.C. 7521 et seq.; CAA), EPA is charged with issuing certificates of conformity for engine prototypes that comply with applicable emission standards. Such a certificate must be issued before engines produced after these prototypes may be legally introduced into commerce. EPA regulations pertaining to spark-ignition engines rated at or below 19 kilowatts (small SI engines) are found at 40 CFR part 90. Regulations pertaining to spark-ignition engines rated above 19 kilowatts (‘large SI engines’) are found at 40 CFR part 1048; recreational vehicle regulations are found at 40 CFR part 1051; testing requirements and compliance regulations that apply to multiple engine types are found at parts 1065 and 1068. Manufacturers electing to participate in an Averaging, Banking and Trading (ABT) Program are also required to submit information regarding the calculation, actual generation, and usage of credits in an initial report, end-of-the-year report, and final report.

These reports are used for certification and enforcement purposes. Manufacturers will also maintain records for eight years on the engine families included in the program. The CAA also mandates that EPA verify that manufacturers have successfully translated their certified prototypes into mass produced engines, and that these engines comply with emission standards throughout their useful lives. Under the Production-line Testing (PLT) Program, manufacturers are required to test a sample of engines as they leave the assembly line. This self-audit program (referred to as the “PLT Program”) allows manufacturers to monitor compliance with statistical certainty and minimize the cost of correcting errors through early detection. Through Selective Enforcement Audits (SEAs), EPA verifies that test data submitted by engine manufacturers is reliable and testing is performed according to EPA regulations. Compliance with emission regulations throughout the useful life of an engine is verified through the In-use Testing (In-use) Programs under which manufacturers test SI engines after a number of years of use. Participation in the PLT program is mandatory. The In-use Programs are voluntary for small SI engines, but mandatory for large SI engines. All manufacturers are subject to SEAs.

This information is collected by the Heavy-Duty and Nonroad Engines Group (HDNEG), Compliance and Innovative Strategies Division (CISD), Office of Transportation and Air Quality (OTAQ), Office of Air and Radiation (OAR), U.S. Environmental Protection Agency (EPA). Besides CISD, this information could be used by the Office of Enforcement and Compliance Assurance (OECA) and the Department of Justice for enforcement purposes. Non-confidential portions of the information submitted to EPA could be disclosed in a public database and over the Internet. This information is used by trade associations, environmental groups, and the public. Respondents usually submit this information in an electronic format and HDNEG stores it in a database.

Burden Statement: The annual public reporting and recordkeeping burden for this collection of information is estimated to average 1,158 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by these actions are manufacturers of marine spark-ignition engines.

Estimated Number of Respondents: 241.

Frequency of Response: Annual, quarterly and on occasion.

Estimated Total Annual Hour Burden: 279,182.

Estimated Total Annual Cost: $26,167,036, includes $7,004,857 annualized capital or O&M costs.

Changes in the Estimates: Overall burden hours are higher due to an agency adjustment; an increased number of respondents are anticipated for this collection.

Dated: March 20, 2008.
Sarah Hisel-McCoy,
Director, Collection Strategies Division.

[FR Doc. E8-6172 Filed 3-25-08; 8:45 am]

BILLING CODE 6560-50-P